DEPARTMENT OF COMMERCE

Department of Commerce: Industry Outreach in Milwaukee, Wisconsin, for Climate Change Negotiations Under the UNFCCC

AGENCY: International Trade Administration, Department of Commerce.

ACTION: Notice of meeting.

SUMMARY: The U.S. Department of Commerce (DOC) will host a half-day roundtable for industry participants on August 25, 2009, in Milwaukee, Wisconsin, during which senior U.S. government officials will outline the draft negotiation text of a new agreement under the United Nations Framework Convention on Climate Change (UNFCCC), provide updates on recent developments, and solicit individual input from participants. The purpose of the industry roundtable is to allow private sector stakeholders, particularly industry and trade associations, to advise U.S. officials on the impact a new UNFCCC agreement could have on their respective operations and on associated commercial opportunities. The DOC anticipates additional outreach events will be held throughout the United States.

DATES: August 25, 2009.

ADDRESSES: To participate in the roundtable, please register via the Internet at: http://bec.msoe.edu/course_descriptions/WPCLIM.php. For questions or problems with Internet registration, please contact Paul D. Churchill, Director, Milwaukee U.S. Export Assistance Center, 1025 North Broadway, R01, Milwaukee, WI 53202; (414) 297-3473; Paul.Churchill@mail.doc.gov.

SUPPLEMENTARY INFORMATION:

Participation

Any private sector participant may register to attend; space is limited. Participants who are unable to attend the event can call into a conference line to participate. To get the audio conference call-in information, please e-mail bec@msoe.edu and put “BEC Audio Recording” in the subject line.

The United Nations Framework Convention on Climate Change—The UNFCCC was signed in 1992 in Rio de Janeiro, Brazil, and entered into force on March 21, 1994. Currently, 192 states have ratified the Convention, including the United States. The treaty requires national inventories of greenhouse gas emissions from developed countries, and encourages national action to stem greenhouse gas emissions and slow climate change. Developed nations also pledge to share technology and resources with developing nations.

Kyoto Protocol to the United Nations Framework Convention on Climate Change—The Kyoto Protocol was adopted in December 1997, entered into force on February 16, 2005, and has been ratified by 184 countries and the European Community. While the United States signed the document, the U.S. Senate has never ratified the treaty. The Kyoto Protocol sets binding emissions targets for 37 industrialized countries, includes mechanisms for measuring and reporting emissions, and provides for financing and technology assistance to developing countries. The Protocol will expire at the end of 2012.

Current UNFCCC Negotiations—Negotiations under the UNFCCC are underway to formulate a successor agreement to the Kyoto Protocol. The discussions have the goal of concluding an agreement in Copenhagen this December. Potential impacts on U.S. industrial competitiveness will be discussed during the upcoming roundtable, including technology transfer, intellectual property, financing, and related commercial opportunities.

Dated: August 10, 2009.
Man Cho,
Energy Team Leader, Office of Energy and Environmental Industries, U.S. Department of Commerce.

[FR Doc. E9-19588 Filed 8-14-09; 8:45 am]

BILLING CODE 3510-DR-P